DEPARTMENT OF ENERGY

Federal Energy Regulatory Commission

[Docket No. CP09-469-000]

Atmos Pipeline and Storage, LLC and Fort Necessity Gas Storage, LLC; Notice of Application

October 7, 2009.

Take notice that on September 28, 2009, Atmos Pipeline and Storage, LLC (Atmos) and Fort Necessity Gas Storage, LLC (Fort Necessity), Three Lincoln Centre, Suite 1800, 5430 LBJ Freeway, Dallas, Texas 75240, filed a joint application in Docket No. CP09-469-000 pursuant to sections 7(b) and 7(c) of the Natural Gas Act (NGA) and Part 157 of the Commission's regulations for permission and approval to abandon by transfer to Fort Necessity: (1) The section 7(c) certificate authorization granted to Atmos in Docket No. CP09-22-000 ¹ to construct and operate the Fort Necessity Storage Project facilities in Franklin Parish, Louisiana; (2) the Part 157, Subpart F, and Part 284, Subpart G, blanket certificates also granted to Atmos in Docket No. CP09-22-000; (3) the exemption orders authorizing Atmos to conduct temporary acts and operations issued in Docket Nos. CP09-34-000,² CP09-34-001,³ and the extension of time granted in Docket No. CP09-34-001 on September 9, 2009; and (4) Fort Necessity seeks section 7(c) authorization to assume full ownership and operational control of the Fort Necessity Storage Project, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

¹ 127 FERC ¶ 61,260 (2009).

² 122 FERC ¶ 61,100 (2008).

³ 125 FERC ¶ 61,148 (2008).

Atmos states that the purpose of the authorization requested herein is to facilitate the transfer of the facilities, certificate authorizations, and exemption authority from Atmos to Fort Necessity, a new wholly owned subsidiary formed for the purpose of owning and operating the Fort Necessity Storage Project.

Any questions regarding this application should be directed to James H. Jeffries, IV, Moore & Van Allen PLLC, Bank of America Corporate Center, 100 North Tryon Street, Suite 4700, Charlotte, North Carolina 28202-4003, telephone (704) 331-1000, or via e-mail: jimjeffries@mvalaw.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: October 28, 2009.

Kimberly D. Bose,
Secretary.

[FR Doc. E9-24802 Filed 10-14-09; 8:45 am]

BILLING CODE 6717-01-P